SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before September 2, 2021.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: The Coronavirus Aid, Relief, and Economic Security Act, (CARES Act) Public Law 116-136 (April 27, 2020) authorized SBA to provide an Advance of up to $10,000 to applicants who applied for an economic injury disaster loan (EIDL) in response to the COVID-19 pandemic. On December 27, 2020, SBA received additional funds under the Economic Aid to Hard-Hit Small Businesses, Nonprofits, and Venues Act, (Economic Aid Act), Public Law 116-260,Div. N, Title III, Sec. 323 (December 27, 2020), to provide additional Advances subject to certain conditions. Specifically, Section 331 of the Economic Aid Act requires SBA to provide Targeted EIDL Advances (Targeted EIDL Advance) to certain entities that previously received an EIDL Advance of less than $10,000; entities that previously applied for a COVID-EIDL, but did not receive an EIDL Advance because there were no funds available; and to new COVID-EIDL applicants, subject to the availability of funds. Eligible entities must be located in a low-income community, must have 300 or fewer employees, must have economic losses of greater than 30 percent, and must meet all other eligibility requirements applicable to EIDLs.

This information collection, SBA Form 3514 was created to to collect the information necessary to implement the Targeted EIDL Advance authority. The information is collected from applicants (small businesses and nonprofits) that meet the eligibility criteria, described above, to apply for a Targeted EIDL Advance. SBA's Office of Capital Access uses the information in determining whether to approve or disapprove the application.

Because of the urgent need to provide the additional financial assistance authorized by the Economic Aid Act, on January 15, 2021, SBA requested and received emergency approval under 5 CFR 1320.13 to use Form 3514. That approval, which included a waiver of the 60-day and 30-day public comment notices required by the Paperwork Reduction Act, expires on July 31, 2021. SBA published the 60-day notice on February 23, 2021, at 86 FR 11041; no comments were received.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control No.: 3245-0419.

Title: Application for COVID-19 Targeted Advance.

Description of Respondents: Small Businesses and Non-Profits.

Estimated Number of Respondents: SBA Form 3514.

Estimated Number of Respondents: 8,625,250.

Estimated Annual Responses: 8,625,250.

Estimated Annual Hour Burden: 4,312,625.

Curtis Rich,
Management Analyst.

[FR Doc. 2021-16451 Filed 8-2-21; 8:45 am]

BILLING CODE 8026-03-P